DEPARTMENT OF COMMERCE

National Oceanic and Atmospheric Administration

[I.D. 032102C]

Marine Mammals; File Application No. 1004-1656

AGENCY: National Marine Fisheries Service (NMFS), National Oceanic and Atmospheric Administration (NOAA), Commerce.

ACTION: Notice of extension of comment period.

SUMMARY: The National Marine Fisheries Service is extending the comment period for the application submitted by Funtime, Inc. d/b/a Six Flags Worlds of Adventure, 1060 North Aurora Road, Aurora, OH 44202, to import two killer whales (Orcinus orca) for the purposes of public display.

DATES: Written or telefaxed comments must be received on or before April 11, 2002.

ADDRESSES: The application and related documents are available for review upon written request or by appointment in the following office(s):

Permits, Conservation and Education Division, Office of Protected Resources, NMFS, 1315 East-West Highway, Room 13705, Silver Spring, MD 20910 (301/713-2289);

Regional Administrator, Northeast Region, NMFS, One Blackburn Drive, Glouster, MA, 01930-2298 (978/281-9116).

Written comments or requests should be submitted to the Chief, Permits, Conservation and Education Division, F/PR1, Office of Protected Resources, NMFS, 1315 East-West Highway, Room 13705, Silver Spring, MD 20910.

Comments may also be submitted by facsimile at (301) 713-0376, provided the facsimile is confirmed by hard copy submitted by mail and postmarked no later than the closing date of the comment period. Please note that comments will not be accepted by e-mail or other electronic media.

FOR FURTHER INFORMATION CONTACT: Jennifer Skidmore or Amy Sloan,(301/713-2289).

SUPPLEMENTARY INFORMATION: The subject permit is requested under the authority of the Marine Mammal Protection Act of 1972, as amended (16 U.S.C. 1361 et seq.), and the Regulations Governing the Taking and Importing of Marine Mammals (50 CFR part 216).

A notice of receipt of this application was published on November 30, 2001 (66 FR 59781) and the comment period closed on December 31, 2001. Based on substantive comments received during the initial comment period, NMFS requested additional information from the applicant and NMFS attempted to provide the additional information by mail to commenters who had expressed interest in the information. The comment period was reopened on February 25, 2002 (67 FR 8526) to close March 27, 2002. Due to an unforseen delay with the mail, this information did not reach the intended recipients in a timely manner. NMFS reviewed the situation and has determined that in this case, there is cause to provide for an extension of the comment period, allowing the interested parties to review the additional information and provide comments. In extending this comment period NMFS finds that a public hearing is not warranted because the issues raised by the comments can be clarified in writing. However, NMFS is providing through this notice an opportunity for additional written comments.

Dated: March 22, 2002.
Ann D. Terbush,
Chief, Permits, Conservation and Education Division, Office of Protected Resources, National Marine Fisheries Service.

[FR Doc. 02-7340 Filed 3-26-02; 8:45 am]

BILLING CODE 3510-22-S